DEPARTMENT OF TRANSPORTATION

Pipeline and Hazardous Materials Safety Administration

[Docket No. PHMSA-2015-0014, Notice No. 15-4]

Research and Development Program Forum

AGENCY: Pipeline and Hazardous Materials Safety Administration (PHMSA), DOT.

ACTION: Notice of public meeting.

SUMMARY: This notice is to advise interested persons that PHMSA will host a Research and Development Forum on Thursday, April 16, 2015, in Washington, DC. PHMSA will use the forum to present the results of recently completed research projects and to discuss current and future research projects. PHMSA will also be soliciting comments on new research projects which may be considered for inclusion in its strategic plan.

DATES: Time and Location: The forum will be held at the DOT Headquarters, 1200 New Jersey Avenue SE., West Building, Conference Center—Oklahoma City Room, Washington, DC 20590 from 9:00 a.m. to 4:00 p.m. EST.

Advanced Meeting Registration: The DOT ask that attendees pre-register for the forum by completing the form at https://www.surveymonkey.com/r/G623RL5. Attendees may use the survey monkey form to pre-register for the forum. Failure to pre-register may delay access to the DOT Headquarters building. If participants are attending in person, early arrival is advised to allow time for security checks necessary to obtain access to the building.

Conference call-in and “live meeting” capability will be provided for the meeting. Specific information on call-in and live meeting access will be posted when available at http://phmsa.dot.gov/hazmat.

FOR FURTHER INFORMATION CONTACT: Mr. Richard Boyle, Office of Hazardous Materials Safety, Department of Transportation, Washington, DC 20590; (202) 366-4545.

Supplementary Information on the PHMSA Meeting: The primary purpose of this meeting is to present the results of recently completed actions and to seek comments relative to potential new research projects which may be considered for inclusion in future work. PHMSA will consider comments received for proposed list of new projects identified in the draft agenda. The meeting agenda and event information may be obtained from PHMSA's Web site at http://phmhqnwas027vg.ad.dot.gov/about/calendar.

Topics on the agenda for the Research and Development Forum include:

• Short-Term Projects (Funded)

○ Hazardous Materials Automated Cargo Communications for Efficient and Safe Shipments (HM-ACCESS)

○ Lithium Batteries

• Mid-Term Projects (Funding Now)

○ Risks Associated with Chained/Unchained Fireworks

○ Incident Investigation: Food Trucks; Oxygen Cylinders

○ Reactivity of Toxic Inhalation Hazard (TIH) material

○ Classification of Crude Oil

○ Service Life Extension of Composite Cylinders

• Long-Term Projects (Planning Funding) potential projects include:

○ Emerging Packaging and Transport Risks

○ Risk Management Framework

○ Crude Oil Classification, Packaging and Transport

○ Bulk Transport of LNG

○ Design and Testing of Composite Overwrapped Cylinders

Magdy El-Sibaie,
Associate Administrator for Hazardous Materials Safety.

[FR Doc. 2015-03488 Filed 2-19-15; 8:45 am]

BILLING CODE 4910-60-P